DEPARTMENT OF THE INTERIOR

Fish and Wildlife Service

Notice of Availability, Draft Natural Resource Restoration Plan

AGENCY: Fish and Wildlife Service, Department of the Interior.

ACTION: Notice of availability.

SUMMARY: The U.S. Fish and Wildlife Service (Service), on behalf of the Department of the Interior (DOI), as a natural resource trustee, announces the release for public review of the Draft Natural Resource Restoration Plan (NRRP) for the Jack's Creek/Sitkin Smelting National Priorities List Superfund Site (Jack's Creek/Sitkin Smelting Site). The Draft NRRP describes the DOI's proposal to restore natural resources injured as a result of chemical contamination at the Jack's Creek/Sitkin Smelting Site.

Dates: Written comments must be submitted on or before August 31, 2000.

ADDRESSES: Requests for copies of the Draft NRRP may be made to: Mark Roberts, U.S. Fish and Wildlife Service, Pennsylvania Field Office, 315 South Allen Street, Suite 322, State College, Pennsylvania 16801.

Written comments or materials regarding the Draft NRRP should be sent to the same address.

FOR FURTHER INFORMATION CONTACT: Mark Roberts, Environmental Contaminants Branch, U.S. Fish and Wildlife Service, Pennsylvania Field Office, 315 South Allen Street, Suite 322, State College, Pennsylvania 16801. Interested parties may also call (814) 234-4090 or send e-mail to mark_roberts@fws.gov for further information.

SUPPLEMENTARY INFORMATION: Under the authority of the Comprehensive Response, Compensation and Liability Act of 1980, as amended (CERCLA), “natural resource trustees may assess damages to natural resources resulting from a discharge of oil or a release of a hazardous substance * * * and may seek to recover those damages.” Natural resource damage assessments are separate from the cleanup actions undertaken at a hazardous waste site, and provide a process whereby the natural resource trustees can determine the proper compensation to the public for injury to natural resources. At the Jack's Creek/Sitkin Smelting Site in Mifflin County, Pennsylvania, DOI was the sole natural resource trustee involved in the federal government's settlement with de minimus responsible parties. The Service determined that contamination at the Site had degraded habitat and injured trust resources (migratory birds). The injuries resulted from the exposure of migratory birds (such as killdeer, eastern bluebird, song sparrow, purple finch, American goldfinch, American robin, eastern phoebe, mourning doves, wood thrush, yellow warbler, and various species of waterfowl and shorebirds) to cadmium, chromium, copper, lead, mercury, selenium, silver, and zinc contamination in at least 5 acres of wetlands and 37 acres of upland habitat on the site.

As part of a Consent decree requiring remedial actions at the Jack's Creek/Sitkin Smelting Site, DOI agreed to a monetary settlement with de minimus responsible parties for natural resource damages. The settlement of $128,908 was designated for restoration, replacement, or acquisition of the equivalent natural resources injured by the release of contaminants at the site, and included reimbursement for costs related to assessing the damages.

The Draft NRRP is being released in accordance with the Natural Resource Damage Assessment Regulations found at Title 43, Part 11 of the Code of Federal Regulations. The Draft NRRP describes habitat restoration and protection alternatives identified by the DOI, and evaluates each of the possible alternatives based on all relevant considerations. The DOI's Preferred Alternative entails the use of the settlement funds to restore several acres of wetlands and upland habitat located within the Jack's Creek watershed. Details regarding the proposed project is contained in the Draft NRRP.

The Final Revised Procedures for the Service in implementing the National Environmental Protection Act were published in the Federal Register on January 16, 1997. That publication provides for a categorical exclusion for natural resource damage assessment restoration plans prepared under CERCLA when only minor or negligible change in the use of the affected areas is planned. The DOI has determined that the Preferred Alternative will result in only minor change in the use of the affected area. Accordingly this Restoration Plan qualifies for a categorical exclusion under NEPA.

Interested members of the public are invited to review and comment on the Draft NRRP. Copies of the Draft NRRP are available from the Service's Pennsylvania Field Office at 315 South Allen Street, Suite 322. State College, Pennsylvania 16801. Additionally the Draft NRRP is available for review at the Mifflin County Library located at 123 North Wayne Street, Lewistown, Pennsylvania. All comments received on the Draft NRRP will be considered and a response provided either through revision of this Draft Plan and incorporation into the Final Natural Resource Restoration Plan, or by letter to the commentor.

Author: The primary author of this notice is Mark Roberts, U.S. Fish and Wildlife Service, Pennsylvania Field Office, 315 South Allen Street, Suite 322, State College, Pennsylvania 16801.

Authority: The authority for this action is the Comprehensive Environmental Response, Compensation and Liability Act of 1980, as amended (“CERCLA”), 42 U.S.C.

Dated: July 24, 2000.
John R. Lemon,
Acting Deputy Regional Director, Region 5, U.S. Fish and Wildlife Service.

[FR Doc. 00-19184 Filed 7-28-00; 8:45 am]

BILLING CODE 4310-55-M